DEPARTMENT OF DEFENSE

Office of the Secretary

[Docket ID DOD-2017-OS-0037]

Notice of Availability for Finding of No Significant Impact for the Environmental Assessment Addressing Divestment of Military Family Housing at Defense Distribution Center, Susquehanna

AGENCY: Defense Logistics Agency (DLA), Department of Defense.

ACTION: Notice of availability (NOA).

SUMMARY: On August 9, 2017, DLA published a NOA in the Federal Register (82 FR 37199) announcing the publication of the Environmental Assessment (EA) Addressing Divestment of Military Family Housing (MFH) at Defense Distribution Center, Susquehanna. The EA was available for a 30-day public comment period that ended September 8, 2017. The EA was prepared as required under the National Environmental Policy Act (NEPA) of 1969. In addition, the EA complied with DLA Regulation 1000.22. No comments from the public were received during the EA public comment period.

FOR FURTHER INFORMATION CONTACT: Ira Silverberg at 703-767-0705 during normal business hours Monday through Friday, from 8:00 a.m. to 4:30 p.m. (EDT) or by email: ira.silverberg@dla.mil.

SUPPLEMENTARY INFORMATION: DLA consulted with the Pennsylvania State Historic Preservation Officer (SHPO) at the Pennsylvania Historical and Museum Commission and the Absentee-Shawnee Tribe of Oklahoma, Cayuga Nation, Delaware Nation-Oklahoma, Eastern Shawnee Tribe of Oklahoma, Onondaga Nation, Seneca-Cayuga Tribe of Oklahoma, Shawnee Tribe, Tuscarora Nation, St. Regis Mohawk Tribe, Seneca Nation of Indians, Tonawanda Band of Seneca, and Osage Nation for this Proposed Action. The SHPO determined that the Proposed Action would have no effect on historic properties, as identified on the returned Project Review Form Request to Initiate SHPO Consultation on State and Federal Undertakings. The Shawnee Tribe provided a response concurring that no known historic properties would be adversely impacted by the Proposed Action. The Shawnee Tribe indicated they have no issues or concerns about the Proposed Action, but requested they be notified in the event that archaeological materials are encountered during construction, use, or maintenance at the MFH area at which time the tribe would resume consultation. DLA did not receive responses to the consultation requests with the other tribes. An appendix was added to the EA that includes the SHPO and tribal consultation documents, and the responses from the SHPO and the Shawnee Tribe. The revised EA is available electronically at the Federal eRulemaking Portal at http://www.regulations.gov within Docket ID: DOD-2017-OS-0037.

This FONSI documents the decision of DLA to divest MFH at Defense Distribution Center, Susquehanna. DLA has determined the Proposed Action is not a major federal action significantly affecting the quality of the human environment within the context of NEPA and no significant impacts on the human environment are associated with this decision.

DLA completed an EA to address the potential environmental consequences associated with the proposed divestment of MFH at Defense Distribution Center, Susquehanna. This FONSI incorporates the EA by reference and summarizes the results of the analyses in the EA.

Purpose of and Need for Action: The purpose of the Proposed Action is to eliminate real property that is no longer needed and reduce operational costs. The Proposed Action is needed because the MFH units are underutilized, outdated, and require a high level of maintenance. The current occupancy rate of the MFH is approximately 32 percent. A majority of the MFH buildings were constructed in the 1950s and are more than 55 years old, while other MFH buildings were constructed prior to 1950. These MFH units are costly to operate and maintain due to their age.

Proposed Action and Alternatives: Under the Proposed Action, DLA would divest all MFH operations at Defense Distribution Center, Susquehanna. DLA would vacate remaining Department of Defense occupants (estimated to be approximately 8 MFH units in 2018) from the installation's total 124 MFH units (39 buildings), demolish 110 MFH units (27 buildings), and retain 14 MFH units (12 buildings) for administrative purposes. Associated bus stops and playground equipment would be demolished; however, sheds would be offered for reuse or sale, as appropriate, prior to demolition. All utility infrastructure, including electric, water, wastewater, natural gas, and communication services, within the MFH area would be removed and capped at the utility mains within adjacent roadways. Sidewalks, driveways, and on-roadway parking spaces associated with demolished MFH buildings would be removed. Two garages, the roadways, and golf course areas within the MFH area would remain.

Description of the No Action Alternative: Under the No Action Alternative, DLA would not divest MFH operations at Defense Distribution Center, Susquehanna. All existing MFH buildings and infrastructure (i.e., utilities, two garages, bus stops, playground equipment, and sheds) would remain in place and DLA would continue to operate the MFH. Because DLA stopped accepting MFH applications in December 2016, it is anticipated that eight MFH units would be occupied in 2018 and further attrition would eventually lead to an occupancy level of zero. Funding for operation and maintenance of the MFH would be applied only to the occupied units, utilities, two garages, playground equipment, and sheds associated with occupied units; the unoccupied MFH units, bus stops, and sheds associated with unoccupied units would continue to deteriorate. The No Action Alternative would not meet the purpose of and need for the Proposed Action.

Potential Environmental Impacts: No significant effects on environmental resources would be expected from the Proposed Action. Insignificant, adverse effects on noise, air quality, water resources, biological resources, infrastructure and transportation, hazardous materials and wastes, and socioeconomics—housing would be expected. Insignificant, beneficial effects on air quality, water resources, infrastructure and transportation, and hazardous materials and wastes also would be expected. No effects on cultural resources would be expected. Details of the environmental consequences are discussed in the EA, which is hereby incorporated by reference.

Determination: DLA has determined that implementation of the Proposed Action will not have a significant effect on the human environment. Human environment was interpreted comprehensively to include the natural and physical environment and the relationship of people with that environment. Specifically, no highly uncertain or controversial impacts, unique or unknown risks, or cumulatively significant effects were identified. Implementation of the Proposed Action will not violate any federal, state, or local laws. Based on the results of the analyses performed during preparation of the EA and consideration of comments received during the public comment period, Mr. Phillip R. Dawson, Acting Director, DLA Installation Management, concludes that divestment of MFH at Defense Distribution Center, Susquehanna, does not constitute a major federal action significantly affecting the quality of the human environment within the context of NEPA. Therefore, an environmental impact statement for the Proposed Action is not required.

Dated: November 17, 2017.
Aaron Siegel,
Alternate OSD Federal Register Liaison Officer, Department of Defense.

[FR Doc. 2017-25256 Filed 11-21-17; 8:45 am]

BILLING CODE 5001-06-P